DEPARTMENT OF ENERGY

48 CFR Part 909

Acquisition Regulation; Contractor Qualifications

CFR Correction

In Title 48 of the Code of Federal Regulations, Chapters 7 to 14, revised as of October 1, 2008, on page 300, reinstate section 909.405 to read as follows:

909.405 Effect of listing. (DOE coverage—paragraph (e), (f), (g) and (h))

(e) The Department of Energy may not solicit offers from, award contracts to or consent to subcontract with contractors debarred, suspended or proposed for debarment unless the Deputy Assistant Secretary for Procurement and Assistance Management makes a written determination justifying that there is a compelling reason for such action in accordance with FAR 9.405(a).

(f) DOE may disapprove or not consent to the selection (by a contractor) of an individual to serve as a principal investigator, as a project manager, in a position of responsibility for the administration of Federal funds, or in another key personnel position, if the individual is on the GSA List.

(g) DOE shall not conduct business with an agent or representative of a contractor if the agent's or representative's name appears on the GSA List.

(h) DOE shall review the GSA List before conducting a preaward survey or soliciting proposals, awarding contracts, renewing or otherwise extending the duration of existing contracts, or approving or consenting to the award, extension, or renewal of subcontracts.

[61 FR 39857, July 31, 1996; 61 FR 41684, Aug. 9, 1996]

[FR Doc. E9-23051 Filed 9-22-09; 8:45 am]

BILLING CODE 1505-01-D